DEPARTMENT OF HOMELAND SECURITY

[Docket No. DHS-2012-0006]

Agency Information Collection Activities: Submission for Review; Information Collection Request for the Department of Homeland Security (DHS), Science and Technology, Protected Repository for the Defense of Infrastructure Against Cyber Threats (PREDICT) Program

AGENCY: Science and Technology Directorate, DHS.

ACTION: 30-Day notice and request for comment.

SUMMARY: The Department of Homeland Security (DHS), Science & Technology (S&T) Directorate invites the general public to comment on data collection forms for the Protected Repository for the Defense of Infrastructure against Cyber Threats (PREDICT) program, and is a revision of a previously approved collection. The PREDICT program facilitates the accessibility of computer and network operational data for use in cyber security research and development through the establishment of distributed repositories of security-relevant network operations data, and the application procedures, protection policies, and review processes necessary to make this data available to the cyber defense research community. The forms allow the PREDICT initiative to provide a central repository, accessible through a web-based portal (https://www.predict.org/) that catalogs current computer network operational data, provide secure access to multiple sources of data collected as a result of use and traffic on the Internet, and facilitate data flow among PREDICT participants for the purpose of developing new models, technologies and products that support effective threat assessment and increase cyber security capabilities. The PREDICT Coordinating Center (PCC) has established application procedures, protection policies, and review processes necessary to make this data available to the cyber defense research community and PREDICT has been operational since Fall 2008. In order for a user to access PREDICT data, s/he must complete a registration form to establish a user account. The information collected is used by the DHS S&T PREDICT program to determine the authenticity and validate the requestor's stated research against the data requested.

The DHS invites interested persons to comment on the following form and instructions (hereinafter “Forms Package”) for the S&T PREDICT program. Interested persons may receive a copy of the Forms Package by contacting the DHS S&T PRA Coordinator. This notice and request for comments is required by the Paperwork Reduction Act of 1995 (Pub. L. 104-13, 44 U.S.C. Chapter 35).

DATES: Comments are encouraged and will be accepted until April 4, 2012.

ADDRESSES: Interested persons are invited to submit comments, identified by docket number DHS-2012-0006, by one of the following methods:

• Federal eRulemaking Portal: http://www.regulations.gov. Please follow the instructions for submitting comments.

• Email: Rick.Stevens@dhs.gov. Please include docket number DHS-2012-0006 in the subject line of the message.

• Fax: (202) 254-6171. (Not a toll-free number).

• Mail: Science and Technology Directorate, ATTN: Chief Information Office—Rick Stevens, 1120 Vermont Ave., Mail Stop 0202, Washington, DC 20005.

FOR FURTHER INFORMATION CONTACT: DHS S&T PRA Coordinator Rick Stevens (202) 254-8221 (Not a toll free number).

SUPPLEMENTARY INFORMATION: The information will be collected via the DHS S&T PREDICT secure Web site at http://www.predict.org/. The PREDICT Web site employs only secure web-based technology to collect information from users to both reduce the burden and increase the efficiency of this collection.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of this Information Collection:

(1) Type of Information Collection: Revision of a currently approved collection.

(2) Title of the Form/Collection: Science and Technology, Protected Repository for the Defense of Infrastructure against Cyber Threats (PREDICT) program.

(3) Agency Form Number, if any, and the applicable component of the Department of Homeland Security sponsoring the collection: Department of Homeland Security, Science & Technology Directorate, Cyber Security Division (CSD).

(4) Affected public who will be asked or required to respond, as well as a brief abstract: Individuals, consisting of federal, state and local law enforcement, private sector and academia practitioners. The information collected will be leveraged to determine the authenticity and suitability of the practitioner requesting access. Once approved, users will utilize the collaborative environment to upload documents/resources, exchange information, network with other users, as well as post blogs and comments.

(5) An estimate of the total number of respondents and the amount of time estimated for an average respondent to respond:

a. Estimate of the total number of respondents: 243.

b. An estimate of the time for an average respondent to respond: 0.5 burden hours.

c. An estimate of the total public burden (in hours) associated with the collection: 118.5 burden hours.

Dated: February 28, 2012.
Rick Stevens,
Chief Information Officer for Science and Technology.

[FR Doc. 2012-5285 Filed 3-2-12; 8:45 am]

BILLING CODE 9110-09-P